DEPARTMENT OF COMMERCE

International Trade Administration

[A-552-801]

Certain Frozen Fish Fillets From the Socialist Republic of Vietnam: Final Results of the Antidumping Duty New Shipper Reviews

AGENCY: Import Administration, International Trade Administration, Department of Commerce.

SUMMARY: On January 25, 2011, the Department of Commerce (“Department”) published the Preliminary Results of the seventh new shipper reviews of the antidumping duty order on certain frozen fish fillets (“frozen fish fillets”) from the Socialist Republic of Vietnam (“Vietnam”).¹ We gave interested parties an opportunity to comment on the Preliminary Results and, based upon our analysis of the comments and information received, we made changes to the margin calculations for the final results of these reviews. The final weighted-average margins are listed below in the “Final Results of the Reviews” section of this notice. The period of review (“POR”) is August 1, 2009, through February 15, 2010.

¹ See Certain Frozen Fish Fillets From the Socialist Republic of Vietnam: Notice of Preliminary Results of Antidumping Duty New Shipper Reviews, 76 FR 4292 (January 25, 2011) (“Preliminary Results”).

DATES: Effective Date: June 17, 2011.

FOR FURTHER INFORMATION CONTACT: Alan Ray, AD/CVD Operations, Office 9, Import Administration, International Trade Administration, U.S. Department of Commerce, 14th Street and Constitution Avenue, NW., Washington, DC 20230; telephone: (202) 482-5403.

SUPPLEMENTARY INFORMATION:

Case History

As noted above, on January 25, 2011, the Department published the Preliminary Results of these new shipper reviews. We extended the deadlines for submission of surrogate value comments and case briefs.² On March 9, 2011, the Department published a notice fully extending the time limit for completion of the final results of these new shipper reviews.³

² See Letter from Alex Villanueva, Program Manager, Office 9, to Interested Parties: Extending Surrogate Value Submission & Briefing Schedule for New Shipper Reviews of Certain Frozen Fish Fillets from the Socialist Republic of Vietnam (February 10, 2011). See also Letter from Matthew Renkey, Acting Program Manager, Office 9, to Interested Parties: Extending Surrogate Value Submission & Briefing Schedule for New Shipper Reviews of Certain Frozen Fish Fillets from the Socialist Republic of Vietnam (March 25, 2011).

³ See Certain Frozen Fish Fillets From the Socialist Republic of Vietnam: Notice of Extension of Time Limit for the Final Results of the Sixth Antidumping Duty Administrative and New Shipper Reviews, 75 FR 80795 (December 23, 2010).

We invited interested parties to comment on the Preliminary Results. Between May 2, 2011, and May 12, 2011, we received case and rebuttal briefs from Petitioners ⁴ and the Respondents. As a result of our analysis, we have made changes to the Preliminary Results.

⁴ The Catfish Farmers of America and individual U.S. Catfish Processors: America's Catch, Consolidated Catfish Companies, LLC dba Country Select Catfish, Delta Pride Catfish, Inc., Harvest Select Catfish, Inc., Heartland Catfish Company, Pride of the Pond, Simmons Farm Raised Catfish, Inc., and Southern Pride Catfish Company LLC (collectively, “Petitioners”).

Scope of the Order ⁵

⁵ See Notice of Antidumping Duty Order: Certain Frozen Fish Fillets From the Socialist Republic of Vietnam, 68 FR 47909 (August 12, 2003) (“Order”).

The product covered by the order is frozen fish fillets, including regular, shank, and strip fillets and portions thereof, whether or not breaded or marinated, of the species Pangasius Bocourti, Pangasius Hypophthalmus (also known as Pangasius Pangasius), and Pangasius Micronemus. Frozen fish fillets are lengthwise cuts of whole fish. The fillet products covered by the scope include boneless fillets with the belly flap intact (“regular” fillets), boneless fillets with the belly flap removed (“shank” fillets), boneless shank fillets cut into strips (“fillet strips/finger”), which include fillets cut into strips, chunks, blocks, skewers, or any other shape. Specifically excluded from the scope are frozen whole fish (whether or not dressed), frozen steaks, and frozen belly-flap nuggets. Frozen whole dressed fish are deheaded, skinned, and eviscerated. Steaks are bone-in, cross-section cuts of dressed fish. Nuggets are the belly-flaps. The subject merchandise will be hereinafter referred to as frozen “basa” and “tra” fillets, which are the Vietnamese common names for these species of fish. These products are classifiable under tariff article codes 1604.19.4000, 1604.19.5000, 0305.59.4000, 0304.29.6033 (Frozen Fish Fillets of the species Pangasius including basa and tra) of the Harmonized Tariff Schedule of the United States (“HTSUS”).⁶ The order covers all frozen fish fillets meeting the above specification, regardless of tariff classification. Although the HTSUS subheading is provided for convenience and customs purposes, our written description of the scope of the order is dispositive.

⁶ Until July 1, 2004, these products were classifiable under tariff article codes 0304.20.60.30 (Frozen Catfish Fillets), 0304.20.60.96 (Fish Fillets, NESOI), 0304.20.60.43 (Frozen Freshwater Fish Fillets) and 0304.20.60.57 (Frozen Sole Fillets) of the HTSUS. Until February 1, 2007, these products were classifiable under tariff article code 0304.20.60.33 (Frozen Fish Fillets of the species Pangasius including basa and tra) of the HTSUS.

Analysis of Comments Received

All issues raised in the case and rebuttal briefs by parties are addressed in “Certain Frozen Fish Fillets from the Socialist Republic of Vietnam (“Vietnam”): Issues and Decision Memorandum for the Final Results,” (June 13, 2011) (“I&D Memo”). A list of the issues which parties raised, and to which we responded in the I&D Memo, is attached to this notice as an Appendix. The I&D Memo is a public document and is on file in the Central Records Unit (“CRU”), Main Commerce Building, Room 7046, and is accessible on the Department's Web site at http://www.trade.gov/ia. The paper copy and electronic version of the memorandum are identical in content.

Changes Since the Preliminary Results

Based on a review of the record, verification, as well as comments received from interested parties regarding our Preliminary Results, we have made certain revisions to the margin calculation for IDI and THIMACO for the final results. For the reasons explained in the I&D Memo at Comment I, we have changed our surrogate country selection from the Philippines to Bangladesh. For all other changes to the calculations of IDI and THIMACO, see the I&D Memo and company specific analysis memoranda. For changes to the surrogate values, see the I&D Memo and “Memorandum to the File, through Matthew Renkey, Acting Program Manager, AD/CVD Operations, Office 9, from Alan Ray, Case Analyst, and Emeka Chukwudebe, Case Analyst, AD/CVD Operations, Office 9, Antidumping Duty New Shipper Reviews of Certain Frozen Fish Fillets from the Socialist Republic of Vietnam: Surrogate Values for the Final Results,” (June 13, 2011).

Final Results of the Reviews

The weighted-average dumping margins for the POR are as follows:

Exporter | Weighted-average margin (dollars per kilogram)
(1) THIMACO | $0.00
(2) IDI | 0.00

Assessment

The Department will determine, and U.S. Customs and Border Protection (“CBP”) shall assess, antidumping duties on all appropriate entries, pursuant to 19 CFR 351.212(b). We have calculated importer-specific duty assessment rates on a per-unit basis. Specifically, we divided the total dumping margins (calculated as the difference between normal value and export price or constructed export price) for each importer by the total quantity of subject merchandise sold to that importer during the POR to calculate a per-unit assessment amount. In this and any future review, we will direct CBP to assess importer-specific assessment rates based on the resulting per-unit (i.e., per-kilogram) rates by the weight in kilograms of each entry of the subject merchandise during the POR. The Department intends to issue appropriate assessment instructions directly to CBP 15 days after publication of the final results of this new shipper review.

Cash Deposit Requirements

The following cash deposit requirements will be effective upon publication of this final results of these new shipper reviews for all shipments of subject merchandise by THIMACO and IDI, entered, or withdrawn from warehouse, for consumption on or after the publication date, as provided by section 751(a)(2)(C) of the Tariff Act of 1930, as amended (“Act”): (1) For subject merchandise produced and exported by IDI or THIMACO, the cash deposit rate will be zero; (2) for subject merchandise exported by IDI or THIMACO, but not manufactured by IDI or THIMACO, the cash deposit rate will continue to be the Vietnam-wide rate of $2.11/Kilogram; and (3) for subject merchandise manufactured by IDI or THIMACO, but exported by any party other than NTSF, the cash deposit rate will be the rate applicable to the exporter. These cash deposit requirements will remain in effect until further notice.

Reimbursement of Duties

This notice also serves as a final reminder to importers of their responsibility under 19 CFR 351.402(f) to file a certificate regarding the reimbursement of antidumping duties prior to liquidation of the relevant entries during this POR. Failure to comply with this requirement could result in the Department's presumption that reimbursement of antidumping duties has occurred and the subsequent assessment of doubled antidumping duties.

Administrative Protective Orders

This notice also serves as a reminder to parties subject to administrative protective orders (“APO”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

We are issuing and publishing this determination in accordance with sections 751(a)(2)(B) and 777(i) of the Act, and 19 CFR 351.214(h) and 351.221(b)(5).

Dated: June 10, 2011.
Ronald K. Lorentzen,
Deputy Assistant Secretary for Import Administration.

Appendix I—Issues & Decision Memorandum

General Issues

Comment I: Selection of Surrogate Country

A. Economic Comparability

B. Significant Producer of the Comparable Merchandise

C. Data Considerations

Comment II: Surrogate Values

A. Financial Ratios

i. Whether To Reject Gemini's Financial Ratios Due to the Subsidies Listed in the Financial Statement

ii. Which Financial Statements Represent the Best Source for Calculating Financial Ratios

B. Byproducts

i. Fish Waste

ii. Fish Skin

Company-Specific Issues

Comment III: Adjustments to THIMACO's Margin Calculation

A. Adjust “International Freight” from a Per Pound to a Per Kilogram Basis

B. Adjust Calculation of “Insurance” To Be Percentage Applied to Gross Unit Price

C. Should the Department Alter Its Preliminary Decision To Use the Intermediate Input Methodology (“IIM”) and Instead Accept THIMACO's Farming Factors, the Department Should Apply AFA to THIMACO's Farming Labor and Medicine FOPs

Comment IV: Adjustments to IDI's Margin Calculation

A. Adjust “Other Discounts” and “International Freight” Pound to Kilogram Basis

B. Adjust Calculation of Brokerage and Handling Expense

C. Calculation of IDI's Carton Boxes

[FR Doc. 2011-15125 Filed 6-16-11; 8:45 am]

BILLING CODE 3510-DS-P